DEPARTMENT OF TRANSPORTATION

Federal Motor Carrier Safety Administration

[Docket No. FMCSA-2023-0272]

Commercial Driver's License: State of Hawaii Department of Transportation; Application for Exemption

AGENCY: Federal Motor Carrier Safety Administration (FMCSA), Department of Transportation (DOT).

ACTION: Notice of application for exemption; request for comments.

SUMMARY: FMCSA announces the Hawaii Department of Transportation's (HDOT) requests for an exemption on behalf of the Hawaii Department of Education's (DOE) Transportation Services Branch and independent schools statewide to allow Class A or B commercial driver's license (CDL) holders with a passenger (P) endorsement to operate a school bus without holding a school bus (S) endorsement, and to allow the use of motorcoaches and vans to transport students to/from a central location to school daily. HDOT states that except for the S endorsement training requirements, all other Federal and State training requirements will be completed before drivers start transporting students in motorcoaches. HDOT believes an exemption will provide a temporary resolution to its school bus driver shortage while drivers complete the S endorsement training. FMCSA requests public comment on the applicant's request for exemption.

DATES: Comments must be received on or before May 15, 2024.

ADDRESSES: You may submit comments identified by Federal Docket Management System (FDMS) Number FMCSA-2023-0272 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, Washington, DC, between 9 a.m. and 5 p.m. E.T., Monday through Friday, except Federal holidays.

• Fax: (202) 493-2251.

Each submission must include the Agency name and the docket number (FMCSA-2023-0272) for this notice. Note that DOT posts all comments received without change to www.regulations.gov, including any personal information included in a comment. Please see the Privacy Act heading below.

Docket: For access to the docket to read background documents or comments, go to www.regulations.gov at any time on the ground level of the West Building, 1200 New Jersey Avenue SE, Washington, DC, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, including any personal information the commenter provides, to www.regulations.gov, as described in the system of records notice DOT/ALL-14 FDMS, which can be reviewed under the “Department Wide System of Records Notices” link at https://www.transportation.gov/individuals/privacy/privacy-act-system-records-notices. The comments are posted without edit and are searchable by the name of the submitter.

FOR FURTHER INFORMATION CONTACT: Mr. Richard Clemente, Driver and Carrier Operations Division; Office of Carrier, Driver and Vehicle Safety Standards, FMCSA; (202) 366-2722; richard.clemente@dot.gov. If you have questions on viewing or submitting material to the docket, contact Dockets Operations at (202) 366-9826.

SUPPLEMENTARY INFORMATION:

I. Public Participation and Request for Comments

FMCSA encourages you to participate by submitting comments and related materials.

Submitting Comments

If you submit a comment, please include the docket number for this notice (FMCSA-2023-0272), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number “FMCSA-2023-0272” in the keyword box, and click “Search.” Next, sort the results by “Posted (Newer-Older),” choose the first notice listed, click the “Comment” button, and type your comment into the text box on the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including any safety analyses that have been conducted. The Agency must provide an opportunity for public comment on the request.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

HDOT seeks relief from the commercial driver's license (CDL) and commercial learner's permit (CLP) regulations in 49 CFR part 383 for the following: to allow Class A or B CDL holders with a P endorsement to operate a school bus without holding an S endorsement CLP, and to allow the use of motorcoaches and vans to transport students to/from a central location to school on a daily basis.1 2 HDOT is working with DOE and independent schools statewide to provide alternative transportation solutions to increase the number of students who can attend school in-person.

¹ HDOT's letter requested a waiver to “immediately address the driver shortage.” However, waivers provide only temporary relief for up to three months. In response, FMCSA is also treating the letter as a request for an exemption and seeking public comments.

² HDOT's application also included a request to be relieved from the S endorsement requirements to allow drivers with a Class 3 driver's license to temporarily transport students to/from school in smaller vehicles such as vans. The Agency has determined that HDOT does not need an exemption to transport students in these non-CDL vehicles because, to the extent they fall within the definition of school bus and school bus operation, they are excepted from regulation under subchapter B of the Federal Motor Carrier Safety Regulations except for the restrictions on driving while texting, using a hand-held phone, and driving while in prohibited status. Therefore, an exemption allowing the non-CDL Class 3 vehicles to transport students to and from school is unnecessary.

HDOT is requesting relief, so that Class A and Class B drivers who have a P endorsement may operate traditional school buses in a school bus operation, without the required S endorsement. HDOT is also requesting the same relief for Class A and Class B drivers who operate motorcoaches or vans to transport students from a central location to school and from school to a central location on a daily basis. Hawaii currently has a severe shortage of school bus drivers, and as a result, the DOE had to reduce services to public school students who do not have transportation to/from school. This reduction of services statewide has impacted the number of students who can attend school in person, especially in rural areas. The shortage has forced a suspension or partial suspension on the islands of Oahu and Kauai, and the route suspensions and partial suspensions will last the entire 2023-2024 school year.

HDOT indicates that with the exception of the S endorsement, all other Federal and State training requirements will be completed prior to the drivers starting motorcoach service. Drivers will be in the process of completing their S endorsements, and therefore HDOT anticipates that the remaining requirement will be met within a reasonable time frame. The DOE will continue to accept responsibility for the initial screening and proficiency of all drivers allowed to provide bus service for students.

A copy of HDOT's application for exemption is available for review in the docket for this notice.

IV. Request for Comments

In accordance with 49 U.S.C. 31315(b), FMCSA requests public comment from all interested persons on HDOT's application for an exemption, so that a Class A or B CDL holder with a P endorsement may operate a school bus without holding an S endorsement. All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2024-07901 Filed 4-12-24; 8:45 am]

BILLING CODE 4910-EX-P